DEPARTMENT OF THE INTERIOR

National Park Service

National Register of Historic Places; Notification of Pending Nominations and Related Actions

Nominations for the following properties being considered for listing or related actions in the National Register were received by the National Park Service before October 7, 2006. Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service,1201 Eye St., NW, 8th floor, Washington, DC 20005; or by fax, 202-371-6447. Written or faxed comments should be submitted by November 8, 2006

John W. Roberts,
Acting Chief, National Register/National Historic Landmarks Program.

ILLINOIS

Cook County

Austin Town Hall Park Historic District, Roughly bounded by West Lake St., N. Central Ave., N. Parkside Ave., and West Race Ave., Chicago, 06001015

Cook County Hospital Administration Building, 1835 W. Harrison St., Chicago, 06001017

Goldblatt Bros. Department Store, 4700 S. Ashland Ave., Chicago, 06001016

Patten, Charles H., House, 117 N. Benton St., Palatine, 06001018

Woman's Club of Evanston, 1702 Chicago Ave., Evanston, 06001020

La Salle County

Hotel Kaskaskia Buildings (Boundary Increase), 217 Marquette St. and 629 Second St., LaSalle, 06001023

Lake County

Lake Bluff Upton Commercial Historic District, 20, 31-113 E. Scranton, 26-40 (even) E. Center Ave., and 550 N. Sheridan, Lake Bluff, 06001021

McLean County

Cedar Crest Additon Historic District, Roughly bounded by Constitutional Trail, Division St., Highland Ave. and Fell Ave., Normal, 06001022

Montgomery County

Brown Shoe Company Factory, 212 S. State St., Litchfield, 06001019

St. Clair County

Curtiss—Wright Hangars 1 and 2, 2200 Vector Dr., 2300 Vector Dr., Cahokia, 06001024

MICHIGAN

Delta County

Minneapolis Shoal Light Station, (Light Stations of the United States MPS) In northern Green Bay 6.6 mi. S of Peninsula Point, NW of Lake Michigan, Bay de Noc, 06001025

Livingston County

Galloway, John H. and Martha Durfee, House, 216 Higgins St., Howell, 06001030

Muskegon County

Muskegon South Breakwater Light, (Light Stations of the United States MPS) At south breakwater end in Lake Michigan, 0.4 mi. SW of Muskegon Lake entry channel, Muskegon, 06001026

Tuscola County

First Presbyterian Church, 6505 Church St., Cass City, 06001029

MISSOURI

Greene County

Franklin Springfield Motor Co. Building, 312-314 E. Olive St., Springfield, 06001027

NEW YORK

Dutchess County

Maxon Mills Feed Elevator, Main St. and Furnace Bank Rd., Wassaic, 06001028

OREGON

Josephine County

Siskiyou Smokejumper Base, Smokejumper Way, 4 mi. SE of Cave Junction off OR 199, Cave Junction, 06001035

Lane County

Rice Apartments, (Residential Architecture of Eugene, Oregon MPS) 360 W. 13th Ave., Eugene, 06001031

Thompson—Roach Building, (Eugene West University Neighborhood MPS)

544-550 E. 13th Ave., Eugene, 06001032

Multnomah County

Grand Central Public Market, (Portland Eastside MPS) 808 SE. Morrison St., Portland, 06001034

Sellwood Branch YMCA, 1436 SE. Spokane St., Portland, 06001033

SOUTH CAROLINA

Florence County

Florence Public Library, 319 S. Irby St., Florence, 06001041

TENNESSEE

Coffee County

Wilkinson—Keele House, 313 S. Ramsey St., Manchester, 06001040

Davidson County

Phillips, Thomas W., Memorial, 1101 19th Ave. S., Nashville, 06001036

Marion County

Kelly's Ferry Road and Cemetery, (Chickamauga-Chattanooga Civil War-Related Sites in Georgia and Tennessee MPS) US 41 near Kelly's Ferry Church of God, Guild, 06001037

Van Buren County

Rocky River Crossing and Road, Rocky River and a continuation of Pleasant Hill Cemetery Rd., Spencer, 06001038

Wilson County

Williamson Chapel CME Church Complex, (Rural African-American Churches in Tennessee MPS) 1576 Needmore Rd., Greenlawn, 06001039

VIRGINIA

Bedford County

Pleasant View, 5050 Bellevue Rd., Forest, 06001043

Rockingham County

Longs Chapel, 1334B Fridley's Gap Rd., Harrisonburg, 06001042

WEST VIRGINIA

Berkeley County

Mason, James, House and Farm, Address Restricted, Hedgesville, 06001044

Mingo County

Williamson Historic District, Roughly bounded by the Norfolk and Western RR, Pritchard, Polpar, Park, Mulberry and Elm Sts., Williamson, 06001045

Monongalia County

Lynch Chapel United Methodist Church, Jct. of Cty Rd. 41 and Cty Rd. 32, Morgantown, 06001046

A request for removal has been made for the following resources:

IOWA

Clay County

Ross, Seymour, Round Barn (Iowa Round Barns: The Sixty Year Experiment TR) Off IA 374 Clay vicinity, 86001422

TENNESSEE

Blounty County

Alcoa South Plant Office (Blount County MPS) Hall Rd. Alcoa, 89001070

Rutherford County

Jenkins, Hiram, House 1556 Gresham Ln. Murgreesboro, 89000504

Williamson County

Liberty School (Williamson County MRA) Liberty Church Rd., 1/4 mi. N of Concord Rd., Brentwood vicinity, 88000317

[FR Doc. E6-17732 Filed 10-23-06; 8:45 am]

BILLING CODE 4312-51-P